DEPARTMENT OF COMMERCE

Foreign-Trade Zones Board

[Order No. 2113]

Approval of Expansion and Modification of Subzone 149C; Phillips 66 Company; Brazoria County, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, Port Freeport, grantee of Foreign-Trade Zone 149, has made application to the Board to expand and modify Subzone 149C on behalf of Phillips 66 Company to include an additional 490 acres at Site 1 and to remove 220 acres from Site 1 (FTZ Docket B-25-2021, docketed March 22, 2021);

Whereas, notice inviting public comment has been given in the Federal Register (86 FR 16183-16184, March 26, 2021) and the application has been processed pursuant to the FTZ Act and the Board's regulations; and,

Whereas, the Board adopts the findings and recommendations of the examiner's memorandum, and finds that the requirements of the FTZ Act and the Board's regulations are satisfied;

Now, therefore, the Board hereby approves the expansion and modification of Subzone 149C on behalf of Phillips 66 Company, as described in the application and Federal Register notice, subject to the FTZ Act and the Board's regulations, including Section 400.13.

Dated: June 28, 2021.
Christian B. Marsh,
Acting Assistant Secretary for Enforcement and Compliance Alternate Chairman, Foreign-Trade Zones Board.

[FR Doc. 2021-14196 Filed 7-1-21; 8:45 am]

BILLING CODE 3510-DS-P